DEPARTMENT OF DEFENSE

Department of the Navy

[Docket ID: USN-2012-0011]

Privacy Act of 1974; System of Records

AGENCY: Department of the Navy, DoD.

ACTION: Notice to Add a New System of Records.

SUMMARY: The Department of the Navy proposes to add a new system of records in its inventory of record systems subject to the Privacy Act of 1974 (5 U.S.C. 552a), as amended. The blanket (k)(1) exemption applies to this systems of records to accurately describe the basis for exempting disclosure of classified information that is or may be contained in the records.

DATES: This proposed action will be effective on August 10, 2012 unless comments are received which result in a contrary determination.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Robin Patterson, Department of the Navy, DNS-36, 2000 Navy Pentagon, Washington, DC 20350-2000 or call at (202) 685-6545.

SUPPLEMENTARY INFORMATION: The Department of the Navy notices for systems of records subject to the Privacy Act of 1974 (5 U.S.C. 552a), as amended, have been published in the Federal Register and are available from the address in FOR FURTHER INFORMATION CONTACT. The proposed system report, as required by 5 U.S.C. 552a(r) of the Privacy Act of 1974, as amended, was submitted on June 27, 2012, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: July 5, 2012.
Aaron Siegel,
Alternate OSD Federal Register Liaison Officer, Department of Defense.

NM01500-13

System Name:

Naval Postgraduate School Education Management System (PYTHON)

System Location:

U.S. Naval Postgraduate School (NPS), 1 University Circle, Monterey, CA 93943-5100.

Categories of Individuals Covered by the System:

U.S. and International Military from all service branches, civilian, and contractor personnel attached to the U.S. Naval Postgraduate School.

Categories of Records in the System:

Name, Social Security Number (SSN), civilian grade, military rank, and address; other names used, other ID number, citizenship, gender, race/ethnicity, birth date, personal cell telephone number, home telephone number, personal email address, mailing/home address, mother's middle name, family member information including name, relationship to sponsor, gender, and email address, marital status, military records, emergency contact, and education information including current grades, curriculum, and prior education.

Authority for Maintenance of the System:

10 U.S.C. 605, United States Naval Postgraduate School; Sections: 7041, Function; 7044, Civilian teachers: number; compensation; 7045, Officers of the other armed forces; enlisted members: admission; 7046, Officers of foreign countries: admission; 7047, Students at institutions of higher education: admission; 7049, Defense industry civilians: admission to defense product development program; and E.O. 9397 (SSN), as amended.

Purpose:

To manage the Navy Postgraduate School Information Technology (NPS IT) user and student information for enrolling students, scheduling classes, disseminating grades, distributing grades, producing and maintaining transcripts, dropping/adding classes, administering student opinion forms, and managing IT accounts.

Routine Uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

The DoD Blanket Routine Uses that appear at the beginning of the Navy's compilation of system of records notices may apply to this system.

Policies and practices for storing, retrieving, accessing, retaining, and disposing of records in the system:

Storage:

Maintained in paper files and on electronic storage media.

Retrievability:

By name and Social Security Number (SSN).

Safeguards:

Access to the Python web interface occurs over encrypted channels. Periodic security audits, regular monitoring of users' security practices and additional security methods enforce access controls to ensure only authorized personnel have access to the data. Paper copies are stored in safes and locked in fire proof file cabinets. These protection mechanisms are emphasized during training, periodic user awareness training, and spot checks. Additional controls are in place such as periodic security audits, regular monitoring of users' security practices, and methods to ensure only authorized personnel have access to personally identifiable information.

Retention and Disposal:

Student's transcripts are permanent. User data is deleted upon departure of the user. System data is destroyed when no longer needed or after two years, whichever is later.

System manager(s) and address:

Director of Enterprise Information Systems, Information Technology and Communication Services, 555 Dyer Road, Monterey, CA 93943-5100.

Notification procedure:

Individuals seeking to determine whether this system of records contains information about themselves should address written inquiries to the commanding officer of the activity in question. Official mailing addresses are published in the Standard Navy Distribution List.

The request should include full name, Social Security Number (SSN), proof of identity, and mailing address of the individual concerned and should be signed by the requestor. The system manager will require an original signature or a notarized signature as a means of proving the identity of the individual requesting access to the records.

Records access procedures:

Individuals seeking access to records about themselves contained in this system of records should address written inquiries to the commanding officer of the activity in question. Official mailing addresses are published in the Standard Navy Distribution List.

The request should include full name, Social Security Number (SSN), proof of identity, and mailing address of the individual concerned and should be signed by the requestor. The system manager will require an original signature or a notarized signature as a means of proving the identity of the individual requesting access to the records.

Contesting record procedures:

The Navy's rules for accessing records, and for contesting contents and appealing initial agency determinations are published in Secretary of the Navy Instruction 5211.5; 32 CFR part 701; or may be obtained from the system manager.

Record source categories:

Individual and NPS faculty.

Exemptions claimed for the system:

An exemption rule for this system has been promulgated in accordance with requirements of 5 U.S.C. 553(b)(1), (2), and (3), and published in 32 CFR part 320. For additional information contact the system manager.

[FR Doc. 2012-16870 Filed 7-10-12; 8:45 am]

BILLING CODE 5001-06-P